DEPARTMENT OF TRANSPORTATION

Federal Aviation Administration

14 CFR Part 71

[Docket No. FAA-2018-0020; Airspace Docket No. 17-AGL-28]

RIN 2120-AA66

Amendment of Class E Airspace; Flint, MI, and Establishment of Class E Airspace; Owosso, MI

AGENCY: Federal Aviation Administration (FAA), DOT.

ACTION: Final rule.

SUMMARY: This action modifies Class E airspace extending upward from 700 feet above the surface at Bishop International Airport, Flint, MI, and establishes separate Class E airspace extending upward from 700 feet above the surface at Owosso Community Airport, Owosso, MI. This action is necessary due to the closure of the Athelone Williams Memorial Airport, Davison, MI, which is included in the Flint, MI, airspace description; the cancellation of the instrument approach procedures at the Genesys Regional Medical Center, Grand Blanc, MI, also included in the Flint, MI, airspace description; and updates the Bishop International Airport airspace and the Owosso Community Airport airspace to comply with FAA Order 7400.2L, Procedures for Handling Airspace Matters. The geographic coordinates of the Bishop International Airport and Prices Airport, Linden, MI, are also being updated to coincide with the FAA's aeronautical database.

DATES: Effective 0901 UTC, September 13, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace extending upward from 700 feet above the surface at Bishop International Airport, Flint, MI, and establishes separate Class E airspace extending upward from 700 feet above the surface at Owosso Community Airport, Owosso, MI, to support instrument flight rules (IFR) operations at these airports.

History

The FAA published a notice of proposed rulemaking in the Federal Register for Docket No. FAA-2018-0020 (83 FR 8638; February 28, 2018) to amend Class E airspace extending upward from 700 feet above the surface at Bishop International Airport, Flint, MI, and establish separate Class E airspace extending upward from 700 feet above the surface at Owosso Community Airport, Owosso, MI. Interested parties were invited to participate in this rulemaking effort by submitting written comments on the proposal to the FAA. No comments were received.

Subsequent to publication, the FAA discovered a typographical error in the geographic coordinates for Bishop International Airport in the Class E airspace extending upward from 700 feet above the surface airspace description. That error has been corrected in this action.

Class E airspace designations are published in paragraph 6002 and 6005, respectively, of FAA Order 7400.11B, dated August 3, 2017, and effective September 15, 2017, which is incorporated by reference in 14 CFR 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14, Code of Federal Regulations (14 CFR) part 71:

Modifies the Class E airspace designated as a surface area at Bishop International Airport, Flint, MI, by updating the geographic coordinates of the airport to coincide with the FAA's aeronautical database, and replaces the outdated term “Airport/Facility Directory” with the term “Chart Supplement” in the airspace legal description;

Modifies the Class E airspace area extending upward from 700 feet above the surface to within a 6.9-mile radius (decreased from a 10.5-mile radius) at Bishop International Airport; removes the extension to the north referencing the Flint ILS localizer; adds an extension 2.4 miles each side of the 016° radial of the Flint VORTAC extending from the 6.9-mile radius to 7.9 miles north of the airport; adds an extension 2.4 miles each side of the 179° radial of the Flint VORTAC extending from the 6.9-mile radius to 7.9 miles south of the airport; removes the Owosso Community Airport, Owosso, MI, from the airspace description (a separate Class E airspace area extending upward from 700 feet above the surface is being created for Owosso Community Airport as it no longer adjoins the Flint, MI, Class E airspace area extending upward from 700 feet above the surface with this amendment); removes Athelone Williams Memorial Airport, Davison, MI, from the airspace description; removes the PETLI LOM from the airspace description; removes Genesys Regional Medical Center, Grand Blanc, MI, from the airspace description; updates the geographic coordinates for Bishop International Airport and Prices Airport, Linden, MI, to coincide with the FAA's aeronautical database; and removes exclusionary language contained in the legal description to comply with FAA Order 7400.2L; and

Establishes Class E airspace area extending upward from 700 feet above the surface to within a 6.4-mile radius of Owosso Community Airport, Owosso, MI.

Airspace reconfiguration is necessary due to the closure of the Athelone Williams Memorial Airport and the cancellation of the instrument procedures at the Genesys Regional Medical Center, as they no longer require a Class E airspace area extending upward from 700 feet above the surface. This action enhances safety and the management of IFR operations at these airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 6002. Class E Surface Area Airspace.

* * * * *

AGL MI E2 Flint, MI [Amended]

Bishop International Airport, MI

(Lat. 42°57′56″ N, long. 83°44′41″ W)

That airspace extending upward from the surface within a 5-mile radius of Bishop International Airport. This Class E airspace area is effective during the specific dates and times established in advance by a Notice to Airmen. The effective date and time will thereafter be continuously published in the Chart Supplement.

Paragraph 6005. Class E Airspace Areas Extending Upward From 700 Feet or More Above the Surface of the Earth.

* * * * *

AGL MI E5 Flint, MI [Amended]

Bishop International Airport, MI

(Lat. 42°57′56″ N, long. 83°44′41″ W)

Prices Airport, MI

(Lat. 42°48′27″ N, long. 83°46′08″ W)

Flint VORTAC

(Lat. 42°58′00″ N, long. 83°44′49″ W)

That airspace extending upward from 700 feet above the surface within a 6.9-mile radius of Bishop International Airport, and within 2.4 miles each side of the 016° radial of the Flint VORTAC extending from the 6.9-mile radius to 7.9 miles north of Bishop International Airport, and within 2.4 miles each side of the 179° radial of the Flint VORTAC extending from the 6.9-mile radius to 7.9 miles south of Bishop International Airport, and within a 6.4-mile radius of Prices Airport.

* * * * *

AGL MI E5 Owosso, MI [New]

Owosso Community Airport, MI

(Lat. 42°59′35″ N, long. 84°08′19″ W)

That airspace extending upward from 700 feet above the surface within a 6.4-mile radius of Owosso Community Airport.

Issued in Fort Worth, Texas, on May 24, 2018.
Christopher L. Southerland,
Acting Manager, Operations Support Group, ATO Central Service Center.

[FR Doc. 2018-11864 Filed 6-4-18; 8:45 am]

BILLING CODE 4910-13-P